CORPORATION FOR NATIONAL AND COMMUNITY SERVICE

Request for Informal Public Comment

AGENCY: Corporation for National and Community Service.

ACTION: Notice inviting informal public comment on operation AmeriCorps grant competition.

SUMMARY: The Corporation for National and Community Service (CNCS) is inviting informal public comment concerning the concept for a new grant competition. The concept paper describing this competition may be obtained via email to Operation AmeriCorps@cns.gov. The concept paper is also available on www.regulations.gov. Individuals who use a telecommunications device for the deaf (TTY-TDD) may call 1-800-833-3722 between 8:00 a.m. and 8:00 p.m. Eastern Time, Monday through Friday.

ADDRESSES: Comments may be submitted, identified as Comment on Operation AmeriCorps, by any of the following two methods within 30 days from the date of publication in the Federal Register:

(1) Electronically via www.regulations.gov.

(2) By email to: OperationAmeriCorps@cns.gov.

SUPPLEMENTARY INFORMATION: CNCS is particularly interested in comments which:

• Lead to clarification of the funding priorities and other components of the concept.

• Deepen the impact of this initiative in achieving measurable change in communities.

• Make the concept more accessible to diverse audiences.

• Make it easier for applicants to apply.

• Add elements that would make it easier for an applicant with no experience with CNCS or national service to apply.

CNCS will not respond individually to those providing input, but will consider comments in preparing for a future competition.

Dated: August 18, 2014.
Jed Herrmann,
Senior Advisor to the CEO.

[FR Doc. 2014-20242 Filed 8-25-14; 8:45 am]

BILLING CODE 6050-28-P